OFFICE OF PERSONNEL MANAGEMENT

Excepted Service

AGENCY: U.S. Office of Personnel Management (OPM).

ACTION: Notice.

SUMMARY: This notice identifies Schedule A, B, and C appointing authorities applicable to a single agency that were established or revoked from May 1, 2019 to May 31, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during May 2019.

Schedule B

No Schedule B Authorities to report during May 2019.

Schedule C

The following Schedule C appointing authorities were approved during May 2019.

Agency name | Organization name | Position title | Authorization No. | Effective date
DEPARTMENT OF AGRICULTURE | Office of Food and Nutrition Service | Confidential Assistant | DA190121 | 05/02/2019
|  | Senior Policy Advisor | DA190141 | 05/17/2019
| Office of Foreign Agricultural Service | Policy Analyst | DA190109 | 05/14/2019
| Office of the Assistant Secretary for Congressional Relations | Legislative Analyst Congressional and Policy Advisor | DA190134 DA190144 | 05/03/2019 05/23/2019
| Office of the Assistant to the Secretary for Rural Development | Senior Advisor | DA190123 | 05/10/2019
| Office of the Secretary | Senior Advisor | DA190146 | 05/24/2019
| Office of the Under Secretary for Research, Education, and Economics | Chief of Staff Staff Assistant | DA190140 DA190142 | 05/17/2019 05/23/2019
DEPARTMENT OF COMMERCE | Office of the Assistant Secretary and Director General for United States and Foreign Commercial Service | Senior Advisor | DC190097 | 05/17/2019
| Office of Executive Secretariat | Confidential Assistant | DC190101 | 05/23/2019
| Office of the Assistant Secretary for Economic Development | Director of External Affairs | DC190098 | 05/10/2019
| Office of the Chief of Staff | Confidential Assistant | DC190094 | 05/10/2019
| Office of the General Counsel | Special Advisor (2) | DC190088 DC190082 | 05/14/2019 05/23/2019
|  | Senior Counsel for Special Projects (2) | DC190095 DC190076 | 05/10/2019 05/03/2019
| Patent and Trademark Office | Deputy Chief Communications Officer | DC190080 | 05/20/2019
DEPARTMENT OF DEFENSE | Office of the Assistant Secretary of Defense (Legislative Affairs) | Special Assistant | DD190120 | 05/17/2019
| Office of the Deputy Under Secretary for Policy | Special Assistant | DD190076 | 05/10/2019
| Office of the Secretary of Defense | Special Assistant Protocol Officer | DD190119 DD190118 | 05/14/2019 05/15/2019
| Washington Headquarters Services | Defense Fellow | DD190112 | 05/10/2019
DEPARTMENT OF THE ARMY | Office of the Assistant Secretary Army (Civil Works) | Special Assistant (Civil Works) | DW190042 | 05/23/2019
DEPARTMENT OF EDUCATION | Office of Communications and Outreach | Special Assistant | DB190085 | 05/02/2019
|  | Confidential Assistant (2) | DB190086 DB190092 | 05/02/2019 05/08/2019
|  | Confidential Assistant (Digital) | DB190087 | 05/08/2019
| Office of Planning, Evaluation and Policy Development | Deputy Director, Office of Educational Technology | DB190101 | 05/30/2019
| Office of Special Education and Rehabilitative Services | Confidential Assistant | DB190098 | 05/20/2019
| Office of the General Counsel | Attorney Adviser | DB190099 | 05/22/2019
| Office of the Under Secretary | Confidential Assistant (Policy) | DB190088 | 05/08/2019
DEPARTMENT OF ENERGY | Office of the Assistant Secretary for Congressional and Intergovernmental Affairs | Chief of Staff | DE190119 | 05/02/2019
|  | Deputy Assistant Secretary for House Affairs | DE190087 | 05/07/2019
|  | Legislative Affairs Advisor | DE190109 | 05/07/2019
| Office of Cybersecurity, Energy Security and Emergency Response | Special Assistant | DE190112 | 05/03/2019
| Office of General Counsel | Deputy Chief of Staff | DE190122 | 05/10/2019
| Office of Small and Disadvantaged Business Utilization | Senior Advisor | DE190088 | 05/03/2019
| Office of the Secretary | Special Assistant | DE190113 | 05/02/2019
ENVIRONMENTAL PROTECTION AGENCY | Office of the Associate Administrator for Policy | Policy Advisor | EP190071 | 05/10/2019
| Office of Public Affairs | Writer | EP190068 | 05/15/2019
| Office of the Associate Administrator for Congressional and Intergovernmental Relations | Special Advisor for Intergovernmental Relations | EP190079 | 05/17/2019
| Office of the Administrator | Special Advisor | EP190076 | 05/23/2019
FEDERAL HOUSING FINANCE AGENCY | Office of Director | Director of Legislative Affairs | HA190004 | 05/15/2019
GENERAL SERVICES ADMINISTRATION | Office of the Administrator | Staff Assistant | GS190029 | 05/30/2019
DEPARTMENT OF HEALTH AND HUMAN SERVICES | Office of Food and Drug Administration | Advisor | DH190116 | 05/06/2019
| Office of Health Resources and Services Administration | Senior Director, Communications | DH190155 | 05/21/2019
| Office of the Assistant Secretary for Health | Advisor | DH190117 | 05/22/2019
DEPARTMENT OF HOMELAND SECURITY | Office of Countering Weapons of Mass Destruction | Special Assistant | DM180285 | 05/23/2019
| Office of Partnership and Engagement | Special Assistant | DM190201 | 05/10/2019
| Office of the Assistant Secretary for Policy | Senior Policy Advisor | DM190199 | 05/22/2019
| Office of the Assistant Secretary for Public Affairs | Assistant Press Secretary (2) | DM190194 DM190202 | 05/10/2019 05/10/2019
|  | Strategic Communications Advisor | DM190206 | 05/10/2019
|  | Deputy Speechwriter | DM190216 | 05/30/2019
| Office of the Chief of Staff | Scheduler Special Assistant Director of Advance, Scheduling and Chief of Protocol | DM190191 DM190210 DM190141 | 05/07/2019 05/20/2019 05/30/2019
DEPARTMENT OF HOUSING AND URBAN DEVELOPMENT | Office of the Secretary | Executive Assistant | DU190069 | 05/07/2019
| Office of Community Planning and Development | Senior Advisor | DU190071 | 05/17/2019
| Office of the Administration | Director of Scheduling | DU190067 | 05/23/2019
| Office of the General Counsel | Senior Counsel | DU190072 | 05/23/2019
DEPARTMENT OF THE INTERIOR | Secretary's Immediate Office | Deputy Press Secretary | DI190045 | 05/02/2019
| Bureau of Land Management | Senior Advisor | DI190051 | 05/02/2019
| Bureau of Reclamation | Senior Advisor | DI190057 | 05/14/2019
DEPARTMENT OF JUSTICE | Office of Justice Programs | Policy Advisor | DJ190063 | 05/03/2019
| Office of Legal Policy | Senior Counsel | DJ190081 | 05/22/2019
| Civil Rights Division | Senior Counsel | DJ190073 | 05/30/2019
DEPARTMENT OF LABOR | Office of Employee Benefits Security Administration | Special Assistant | DL190064 | 05/15/2019
| Office of Employment and Training Administration | Special Assistant (Events and Operations) | DL190062 | 05/02/2019
| Office of Congressional and Intergovernmental Affairs | Case Officer | DL190065 | 05/03/2019
| Office of Labor-Management Standards | Special Assistant | DL190054 | 05/02/2019
| Office of Public Affairs | Press Assistant Chief of Staff | DL190056 DL190069 | 05/02/2019 05/23/2019
| Office of the Deputy Secretary | Director of Operations Senior Counselor | DL190059 DL190037 | 05/14/2019 05/22/2019
| Office of the Secretary | Advance Representative | DL190057 | 05/14/2019
|  | Director of Scheduling and Operations | DL190060 | 05/14/2019
|  | Deputy Chief of Staff | DL190070 | 05/20/2019
NATIONAL CREDIT UNION ADMINISTRATION | Office of Public and Congressional Affairs | Assistant, Director of External Affairs | CU190004 | 05/08/2019
OFFICE OF MANAGEMENT AND BUDGET | Office of the Director | Deputy Chief of Staff | BO190021 | 05/10/2019
| Office of General Government Programs | Confidential Assistant | BO190024 | 05/30/2019
OFFICE OF PERSONNEL MANAGEMENT | Office of the Director | Confidential Assistant | PM190036 | 05/30/2019
SMALL BUSINESS ADMINISTRATION | Office of Communications and Public Liaison | Deputy Press Secretary | SB190013 | 05/02/2019
DEPARTMENT OF STATE | Bureau of Economic and Business Affairs | Special Representative | DS190099 | 05/20/2019
| Bureau of Legislative Affairs | Legislative Management Officer | DS190100 | 05/22/2019
| Bureau of Near Eastern Affairs | Senior Advisor | DS190102 | 05/23/2019
| Bureau of Public Affairs | Senior Advisor (2) | DS190090 DS190017 | 05/06/2019 05/30/2019
| Office of the Chief of Protocol | Assistant Chief of Protocol (Visits) | DS190082 | 05/02/2019
| Office of the Counselor | Staff Assistant | DS190092 | 05/20/2019
| Office of the Legal Advisor | Senior Advisor | DS190101 | 05/23/2019
| Office of the Secretary | Deputy Special Envoy to Combat Anti-Semitism | DS190083 | 05/07/2019
| Office of the United States Global Aids Coordinator | Senior Advisor for Strategy | DS190098 | 05/17/2019
| Office of the Under Secretary for Economic Growth, Energy, and the Environment | Senior Economic Advisor | DS190068 | 05/07/2019
| Office of the Under Secretary for Management | Staff Assistant | DS190084 | 05/02/2019
DEPARTMENT OF TRANSPORTATION | Office of the Assistant Secretary for Research and Technology | Senior Advisor for Economic Policy | DT190072 | 05/03/2019
|  | Senior Advisor for Research and Technology Senior Advisor | DT190068 DT190083 | 05/10/2019 05/23/2019
| Office of the Assistant Secretary for Transportation Policy | Public Liaison Officer | DT190084 | 05/10/2019
| Office of the Chief Information Officer | Special Assistant | DT190080 | 05/07/2019
| Office of Government and Industry | Special Assistant for Governmental Affairs | DT190069 | 05/14/2019
| Office of the Secretary | Senior Advisor | DT190078 | 05/06/2019
| Office of Public Affairs | Deputy Press Secretary | DT190073 | 05/06/2019
DEPARTMENT OF THE TREASURY | Office of the Assistant Secretary (Economic Policy) | Special Assistant | DY190062 | 05/15/2019
| Secretary of the Treasury | Deputy Chief of Staff (2) | DY190067 DY190068 | 05/14/2019 05/14/2019
|  | Special Assistant (3) | DY190065 DY190066 DY190055 | 05/15/2019 05/15/2019 05/22/2019
| Office of the Under Secretary for International Affairs | Special Assistant for International Affairs | DY190072 | 05/30/2019
| Office of the Under Secretary for Terrorism and Financial Intelligence | Special Assistant | DY190061 | 05/14/2019
UNITED STATES INTERNATIONAL TRADE COMMISSION | Office of Commissioner Kearns | Staff Assistant | TC190002 | 05/03/2019
DEPARTMENT OF VETERANS AFFAIRS | Board of Veterans' Appeals | Attorney (Advisor) | DV190059 | 05/06/2019

The following Schedule C appointing authorities were revoked during May 2019.

Agency name | Organization name | Position title | Request No. | Date vacated
DEPARTMENT OF AGRICULTURE | Office of Under Secretary for Natural Resources and Environment | Staff Assistant | DA190041 | 05/03/2019
| Foreign Agricultural Service | Senior Policy Advisor | DA180190 | 05/25/2019
| Office of the Assistant Secretary for Congressional Relations | Associate Director | DA180159 | 05/25/2019
| Office of the Under Secretary for Farm Production and Conservation | Confidential Assistant | DA190013 | 05/24/2019
| Rural Housing Service | State Director—Arizona State Director—North Carolina | DA180052 DA180072 | 05/03/2019 05/24/2019
DEPARTMENT OF COMMERCE | Office of the Assistant Secretary for Enforcement and Compliance | Senior Advisor | DC190009 | 05/11/2019
| Bureau of Industry and Security | Senior Advisor | DC170129 | 05/24/2019
| Office of Policy and Strategic Planning | Policy Assistant | DC190036 | 05/25/2019
| Office of the Chief of Staff | Confidential Assistant | DC180104 | 05/24/2019
| Office of the General Counsel | Senior Counsel to the General Counsel | DC180130 | 05/25/2019
| Office of the Under Secretary | Senior Advisor | DC180100 | 05/03/2019
OFFICE OF THE SECRETARY OF DEFENSE | Office of the Assistant Secretary of Defense (Legislative Affairs) | Special Assistant for Legislative Affairs | DD180091 | 05/25/2019
| Office of the Secretary of Defense | Special Assistant to the White House Liaison | DD180115 | 05/18/2019
| Office of the Under Secretary of Defense (Comptroller) | Special Assistant to the Under Secretary of Defense (Comptroller) | DD180039 | 05/25/2019
| Office of the Under Secretary of Defense (Policy) | Special Assistant | DD190030 | 05/11/2019
DEPARTMENT OF EDUCATION | Office of Career Technical and Adult Education | Confidential Assistant | DB180064 | 05/11/2019
| Office of Communications and Outreach | Confidential Assistant (3) | DB180042 DB180046 DB190064 | 05/11/2019 05/11/2019 05/11/2019
|  | Special Assistant | DB180014 | 05/11/2019
| Office of Legislation and Congressional Affairs | Confidential Assistant Special Assistant Special Assistant (Supervisory) | DB180054 DB180062 DB180063 | 05/11/2019 05/11/2019 05/11/2019
| Office of Postsecondary Education | Confidential Assistant | DB180055 | 05/11/2019
| Office of the Under Secretary | Confidential Assistant | DB180069 | 05/11/2019
DEPARTMENT OF ENERGY | Office of the Deputy Secretary | Senior Advisor | DE190014 | 05/29/2019
DEPARTMENT OF HEALTH AND HUMAN SERVICES | Office of the Intergovernmental and External Affairs | Regional Director, Denver, Colorado, Region VIII | DH170247 | 05/03/2019
| Office of Refugee Resettlement/Office of the Director | Policy Advisor | DH180193 | 05/11/2019
| Office of the Secretary | Trip Coordinator | DH170271 | 05/11/2019
| Centers for Medicare and Medicaid Services | Senior Advisor | DH180180 | 05/30/2019
DEPARTMENT OF HOMELAND SECURITY | Office of the Assistant Secretary for Public Affairs | Deputy Assistant Secretary | DM180112 | 05/11/2019
DEPARTMENT OF HOUSING AND URBAN DEVELOPMENT | Office of Public and Indian Housing Office of the Secretary | Senior Advisor Senior Advisor | DU180031 DU170100 | 05/04/2019 05/11/2019
DEPARTMENT OF STATE | Bureau of Public Affairs | Deputy Assistant Secretary for Strategic Communication | DS180012 | 05/11/2019
| Office of the Chief of Protocol | Protocol Officer | DS180023 | 05/11/2019
| Office of the Secretary | Special Assistant | DS170192 | 05/11/2019
| Office of the Under Secretary for Arms Control and International Security Affairs | Special Assistant | DS170133 | 05/11/2019
DEPARTMENT OF TRANSPORTATION | Immediate Office of the Administrator | Director of Governmental, International and Public Affairs | DT180048 | 05/11/2019
NATIONAL LABOR RELATIONS BOARD | Office of the Board Members | Congressional Liaison Specialist | NL150007 | 05/23/2019
OCCUPATIONAL SAFETY AND HEALTH REVIEW COMMISSION | Occupational Safety and Health Review Commission | Confidential Assistant to the Chairman | SH170006 | 05/31/2019
OFFICE OF PERSONNEL MANAGEMENT | Office of Communications | Speech Writer | PM180061 | 05/25/2019

Authority: 5 U.S.C. 3301 and 3302; E.O. 10577, 3 CFR, 1954-1958 Comp., p. 218.

Office of Personnel Management.
Stephen Hickman,
Regulatory Affairs Analyst.

[FR Doc. 2019-23061 Filed 10-22-19; 8:45 am]

BILLING CODE 6325-39-P